DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is updating the identifying information on its Specially Designated Nationals and Blocked Persons List (SDN List) for one entity whose property and interests in property subject to U.S. jurisdiction are blocked pursuant to Executive Order 13224, as amended.

DATES: See SUPPLEMENTARY INFORMATION section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or the Assistant Director for Sanctions Enforcement, Compliance & Analysis, tel.: 202-622-2490.

SUPPLEMENTARY INFORMATION:

Electronic Availability

The SDN List and additional information concerning OFAC sanctions programs are available on OFAC's website (ofac.treasury.gov).

Notice of OFAC Action

On September 27, 2023, OFAC published the following revised information for the entry on the SDN List for the following entity whose property and interests in property are blocked pursuant to Executive Order 13224 of September 23, 2001, “Blocking Property and Prohibiting Transactions With Persons Who Commit, Threaten To Commit, or Support Terrorism,” as amended by Executive Order 13886 of September 9, 2019, “Modernizing Sanctions to Combat Terrorism.”

Entity

1. K2016212771 SOUTH AFRICA PTY LTD (f.k.a. “INEOS TRADING PTY LTD”), 118 Mallinson Rd, Asherville, Durban, KwaZulu-Natal 4001, South Africa; Secondary sanctions risk: section 1(b) of Executive Order 13224, as amended by Executive Order 13886; Organization Established Date 20 Jun 2016; Tax ID No. 9954121167 (South Africa); Trade License No. 2016/212771/07 (South Africa); Enterprise Number K2016212771 (South Africa) [SDGT] (Linked To: HOOMER, Farhad).

Dated: September 27, 2023.
Bradley T. Smith,
Director, Office of Foreign Assets Control, U.S. Department of the Treasury.

[FR Doc. 2023-21965 Filed 10-3-23; 8:45 am]

BILLING CODE 4810-AL-P